DEPARTMENT OF THE INTERIOR

Fish and Wildlife Service

[FWS-R4-R-2012-N080; FXRS12650400000S3-123-FF04R02000]

Chassahowitzka National Wildlife Refuge, FL; Draft Comprehensive Conservation Plan and Environmental Assessment

AGENCY: Fish and Wildlife Service, Interior.

ACTION: Notice of availability; request for comments.

SUMMARY: We, the Fish and Wildlife Service (Service), announce the availability of a draft comprehensive conservation plan and environmental assessment (Draft CCP/EA) for Chassahowitzka National Wildlife Refuge (NWR) in Citrus and Hernando Counties, Florida, for public review and comment. In this Draft CCP/EA, we describe the alternative we propose to use to manage this refuge for the 15 years following approval of the final CCP.

DATES: To ensure consideration, we must receive your written comments by June 11, 2012.

ADDRESSES: You may obtain a copy of the Draft CCP/EA by contacting Mr. Michael Lusk via U.S. mail at Chassahowitzka National Wildlife Refuge, 1502 SE. Kings Bay Drive, Crystal River, Florida 34429. Alternatively, you may download the document from our Internet Site at http://southeast.fws.gov/planning under “Draft Documents.” Comments on the Draft CCP/EA may be submitted to the above postal address or by email to: ChassCCP@fws.gov.

FOR FURTHER INFORMATION CONTACT: Ms. Mary Morris at 850/567-6202 (telephone); or via email at: ChassCCP@fws.gov.

SUPPLEMENTARY INFORMATION:

Introduction

With this notice, we continue the CCP process for Chassahowitzka NWR started through a notice in the Federal Register on June 8, 2009 (74 FR 27173). For more about the refuge and our CCP process, please see that notice.

Located about 60 miles north of Tampa, the 30,843-acre Chassahowitzka NWR was established by authority of the Migratory Bird Conservation Act on June 15, 1943, as “an inviolate sanctuary” for wintering waterfowl and other migratory birds. In 1976, Congress designated roughly three-quarters of the refuge (23,579 acres) as wilderness under the Wilderness Act of 1964 (16 U.S.C. 1131-1136).

The refuge's diverse ecosystems, including prime, estuarine habitat, hosts a myriad and abundance of flora and fauna. The marshlands, swamplands, shallow bays, and tidal streams provide both the quantity and quality of aquatic plant and animal life required to support thousands of wintering waterfowl, marsh and waterbirds, shorebirds, fishes, and a variety of animal species that depend on a marine environment. The refuge also has 2,560 acres of hardwood swamplands and 250 acres of upland forest. Notable imperiled species include Florida manatees and an experimental population of whooping cranes introduced to the marsh habitats over a decade ago by means of a partnership.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

Priority resource issues addressed in the Draft CCP/EA include: (1) Priority imperiled species (e.g., manatees and whooping crane); (2) determining the habitat needs of migratory birds and the cause of waterfowl population declines on the refuge since the 1970s; (3) evaluating the external threats of potential loss of water quality and quantity; (4) controlling invasive plant and pest animal species; (5) documenting climate change effects on refuge resources (6) protecting natural, cultural and wilderness resources; (7) limited accessibility issues; (8) administrative resources; and (9) partnerships.

CCP Alternatives, Including Our Proposed Alternative

We developed three alternatives for managing the refuge (Alternatives A, B, and C), with Alternative C as our proposed alternative. A full description of each alternative is in the Draft CCP/EA. We summarize each alternative below.

Alternative A: Current Management (No Action)

This refuge is closer to pristine and has much less public use than most areas of Florida, so the goal under all three alternatives is to maintain its resources. To date, this has been done with minimal management by a small staff. Under this alternative, ongoing programs would continue. Species of Federal responsibility, such as threatened and endangered species and migratory birds, would continue to be monitored at present levels. High-profile, imperiled species, such as manatees and whooping cranes, would remain the focus. Additional species monitoring would occur as opportunistic events when contacts outside our staff offer support. Current habitat management, including prescribed fire, would continue (to improve crane habitat and to address fuel loads in uplands). Management of exotic, invasive, and nuisance animal and plant species would continue to be opportunistic. The public use programs of hunting, fishing, wildlife observation, wildlife photography, and environmental education and interpretation and other existing uses would continue at present levels. Acquisition of inholding lands into the refuge would occur as willing sellers and funding become available. There is no staff dedicated exclusively to this refuge; instead, refuge staff draws from the staff assigned to the Crystal River NWR Complex (Complex), which also includes the Tampa Bay Refuges. This includes mostly the manager, deputy manager, wildlife biologist, and three park rangers (i.e., two wildlife officers and one visitor services staff). Alternative A presents the baseline upon which the other two alternatives are expanded, but with differing management approaches.

Alternative B: Increased Research and Management via Partnerships

Alternative B proposes increased research and management capability, primarily through the use of cooperative partnerships and outside funding, with a modest increase of staff (three positions for the Complex). Research would be enhanced beyond priority, high-profile imperiled species. Because much baseline data are needed beyond the current surveying and monitoring protocols, this alternative would seek to initiate studies of a broader suite of species and to document noted declines of refuge habitat and species (waterfowl) and climate-change impacts. Since the refuge is accessible mostly by water from off-site, non-Service-owned ramps, we would provide more complete information to help the public locate the refuge via water. Studies would be conducted to assess visitor and commercial use effects on refuge resources; further, in Citrus County, commercial uses would require a special use permit issued by the refuge. A volunteer coordinator position is proposed to expand the volunteer corps and programs and to train and use volunteers to promote interpretation, voluntary compliance with refuge regulations, and the new environmental education programs of the refuge.

Alternative C: Adaptive Management (Proposed Alternative)

Alternative C would also heavily rely on our extensive partnerships and promote some new ones. We would rely on and use a volunteer corps for every program area and investigate the use of prison crews for maintenance work. This alternative assumes Service funding above current levels for research studies and facilities development and proposes additional staffing (eight positions for the Complex), to provide optimal resource protection and management capability. Research would include a broader suite of species, as well as habitat studies to adaptively manage for wildlife populations. The impacts of commercial and visitor use and external threats to the refuge would be studied and the results of those studies applied to refuge management and public use. Upland uses would be promoted though the development of improved facilities and access, and an observation platform and kayak landing would be added to the Dog Island facility, accessed by boat. The addition of key positions, such as a law enforcement officer, a volunteer coordinator, and biological and computer-mapping technicians, would allow for greater resource study, mapping, data analysis, and enforcement. The hiring of a wildlife refuge specialist and office assistant would support staff and provide a dedicated outreach coordinator. Refuge facilities would be improved for both visitor services and personnel, including projects to replace the headquarters office (to reduce flooding potential) and build a pole barn and make other smaller improvements to the maintenance area and shop. For all alternatives, “green” options, materials, and energy efficiency would be included in the design and construction of new facilities and in equipment replacement.

Next Step

After the comment period ends, we will analyze the comments and address them.

Public Availability of Comments

Before including your address, phone number, email address, or other personal identifying information in your comment, you should be aware that your entire comment-including your personal identifying information-may be made publicly available at any time. While you can ask us in your comment to withhold your personal identifying information from public review, we cannot guarantee that we will be able to do so.

Authority

This notice is published under the authority of the National Wildlife Refuge System Improvement Act of 1997 (16 U.S.C. 668dd et seq.).

Dated: April 17, 2012.
Mark J. Musaus,
Acting Regional Director.

[FR Doc. 2012-11393 Filed 5-10-12; 8:45 am]

BILLING CODE 4310-55-P